DEPARTMENT OF STATE

[Delegation of Authority No. 335]

Delegation of the Authorities of the Assistant Secretary of State for Administration to William H. Moser

By virtue of the authority vested in me by the laws of the United States, including the State Department Basic Authorities Act, as amended (22 U.S.C. 2651a), and Delegations of Authority 323 and 198, I hereby delegate to William H. Moser, to the extent authorized by law, all authorities vested in the Assistant Secretary of State for Administration, including authorities vested in the Secretary of State that have been or may be delegated to the Assistant Secretary of State for Administration.

Notwithstanding this delegation of authority, the Secretary of State, the Deputy Secretary of State, the Deputy Secretary of State for Management and Resources, the Under Secretary of State for Political Affairs, and the Under Secretary of State for Management may exercise any function or authority delegated herein.

Nothing in this delegation of authority shall be deemed to supersede any other delegation of authority. This delegation shall expire upon the appointment by the President of an Assistant Secretary for Administration, unless sooner revoked.

This delegation shall be published in the Federal Register.

Dated: March 31, 2011.
Patrick F. Kennedy,
Under Secretary for Management.

[FR Doc. 2011-8540 Filed 4-11-11; 8:45 am]

BILLING CODE 4710-35-P